DEPARTMENT OF COMMERCE

National Oceanic and Atmospheric Administration

RIN 0648-XH79

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, June 4-10, 2008, in Kodiak, AK.

DATES: The Council will begin its plenary session at 8 a.m. on Wednesday, June 4 continuing through Tuesday June 10, 2008. The Council's Advisory Panel (AP) will begin at 8 a.m., Monday, June 2 and continue through Saturday June 7. The Scientific and Statistical Committee (SSC) will begin at 8 a.m. on Monday, June 2 and continue through Wednesday June 4, 2008. The Enforcement Committee will meet Tuesday, June 3, from 1 p.m. to 5 p.m. in the Harbor Room. All meetings are open to the public, except executive sessions.

ADDRESSES: The meetings will be held at the Best Western Kodiak Inn, 236 Rezanof Drive, Kodiak, AK.

Council address: North Pacific Fishery Management Council, 605 W. 4th Avenue, Suite 306, Anchorage, AK 99501-2252.

FOR FURTHER INFORMATION CONTACT: David Witherell, Council staff, telephone: (907) 271-2809.

SUPPLEMENTARY INFORMATION: Council Plenary Session: The agenda for the Council's plenary session will include the following issues. The Council may take appropriate action on any of the issues identified.

1. Reports

-Executive Director's Report

-NMFS Management Report (including permit fee discussion paper)

-Alaska Department of Fish & Game Report

-U.S. Coast Guard Report

-U.S. Fish & Wildlife Service Report

-NMFS Enforcement Report

-Protected Species Report (including update on the BiOp schedule)

2. Subsistence Halibut: Initial review/final action on subsistence halibut rural definition.

3. Salmon Bycatch: Initial review of BSAI (BSAI) Salmon Bycatch Environmental Impact Statement.

4. BSAI Crab Issues: Initial review/final action on fees for crab loan program; Receive report from Crab Committee; (relative to the Western Aleutian Islands Golden King Crab underutilization, community Right Of First Refusal (ROFR), crew participation, and emergency relief) and take action as necessary.

5. Gulf of Alaska Groundfish (GOA) Issues: Initial review of fixed gear recency; Initial review of the Pacific cod sector split.

6. Vessel Monitoring System (VMS) exemption for dinglebar: Final action on VMS exemption for dinglebar gear.

7. Research Priorities: Review and adopt a 5 year research plan.

8. 4E Seabirds: Final action on 4e seabird avoidance measures.

9. Ecosystem Based Management: Receive report from Ecosystem Committee; preliminary review of Arctic FMP. (Council only).

10. GOA Sideboards: Initial review GOA sideboards for BSAI crab vessels; Initial review GOA sideboards regarding GOA rockfish; Initial review GOA sideboards for American Fisheries Act Catcher Vessels.

11. Miscellaneous Groundfish Management: Committee report on other species management; Discussion paper on GOA crab and salmon bycatch (Council only); Receive report on gear modification research; Review discussion paper on Amendment 80 sector cooperative criteria; Report on halibut excluder Experimental Fishing Permit (EFP).

12. GOA Rockfish Pilot Program: Receive report which reviews the Rockfish Pilot Program; Receive report on Central GOA Rockfish EFP, phase one.

13. BSAI Crab Overfishing Level (OFLs): Receive Plan Team report on BSAI crab OFLs; Review preliminary Crab Stock Assessment Evaluation report.

14. Staff Tasking: Review Committees and tasking; review Programmatic Supplemental Environmental Impact Statement priorities workplan; Receive report on native/community/stakeholder participation.

15. Other Business.

The SSC agenda will include the following issues:

1. Halibut Subsistence

2. Salmon Bycatch

3. Research Priorities

4. GOA Sideboards

5. GOA Rockfish Pilot

6. BSAI Crab OFLs

7. GOA Groundfish

The Advisory Panel will address most of the same agenda issues as the Council, except for #1 reports. The Agenda is subject to change, and the latest version will be posted at http://www.fakr.noaa.gov/npfmc/.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: May 6, 2008.
Tracey L. Thompson,
Acting Director, Office of Sustainable Fisheries, National Marine Fisheries Service.

[FR Doc. E8-10385 Filed 5-9-08; 8:45 am]

BILLING CODE 3510-22-S